DEPARTMENT OF ENERGY

Federal Energy Regulatory Commission

[Project No. 2299-060]

Modesto Irrigation District, Turlock Irrigation District; Notice To Hold a Public Meeting To Discuss the Fisheries Study Plan for the Don Pedro Project

July 18, 2007.

The Modesto Irrigation District and the Turlock Irrigation District (licensees) filed a Fisheries Study Plan on March 20, 2007, in response to the Commission's December 20, 2006, request made pursuant to Article 58 of the license, as amended.¹ The Commission issued a Preliminary Staff Assessment (PSA) of the plan on June 15, 2007, and requested that interested parties file comments by July 15, 2007.

¹ See 76 FERC ¶ 61,117 (1996).

Commission staff will conduct a public meeting to discuss the design and schedule for future monitoring studies based on the licensees' plan and the comments received to date on the staff's PSA. Commission staff will be prepared to lead the discussion, and asks that all participating parties be prepared to support their oral statements with documented information.

The meeting will be held on Wednesday, August 8, 2007, from 9 a.m. to 5 p.m. (PDT) at the John E. Moss Federal Building and Courthouse, 650 Capitol Mall, Stanford Room, 1st floor, Sacramento, California 95814. The licensees, resource agency personnel, and other persons interested in this matter are invited to participate. This meeting will not be recorded by a stenographer.

The following is the agenda for the meeting:

9 a.m.-9:15 a.m. Introductions/Purpose for Meeting

9:15 a.m.-10:30 a.m. Instream Flow Schedule

10:30 a.m.-10:45 a.m. Break

10:45 a.m.-11:30 a.m. Habitat Restoration

11:30 a.m.-2:15 p.m. Fry Survival

12:15 p.m.-1:30 p.m. Lunch

1:30 p.m.-2:30 p.m. Steelhead Presence/Protection

2:30 p.m.-3:15 p.m. Predator Control

3:15 p.m.-4 p.m. River Temperature

4 p.m.-4:30 p.m. Other Monitoring

4:30 p.m.-5 p.m. Wrap up/What's next

Special security precautions are employed at this Federal building. Visitors must go through full security screening and are not permitted to bring in cell phones or cameras with digital photo capability. Laptops and PDAs must be booted up at the security entrance. Any questions about this notice should be directed to Philip Scordelis at the Federal Energy Regulatory Commission, (415) 369-3335, or by e-mail at philip.scordelis@ferc.gov.

Kimberly D. Bose,
Secretary.

[FR Doc. E7-14411 Filed 7-25-07; 8:45 am]

BILLING CODE 6717-01-P